FEDERAL MARITIME COMMISSION

Ocean Transportation Intermediary Licenses Correction

In the OTI Applicant Notice published in the Federal Register on November 1, 2006 (71 FR 64281) reference to the name of the Zenus (USA) Logistics LLC is corrected to read: “Zeus (USA) Logistics LLC”.

Dated: December 8, 2006.
Bryant L. VanBrakle,
Secretary.

[FR Doc. E6-21168 Filed 12-12-06; 8:45 am]

BILLING CODE 6730-01-P